DEPARTMENT OF COMMERCE

International Trade Administration

[C-570-059]

Cold-Drawn Mechanical Tubing of Carbon and Alloy Steel From the People's Republic of China: Rescission of Countervailing Duty Review; 2019

AGENCY: Enforcement and Compliance, International Trade Administration, Department of Commerce.

SUMMARY: The Department of Commerce (Commerce) is rescinding the administrative review of the countervailing duty (CVD) order on cold-drawn mechanical tubing of carbon and alloy steel (CDMT) from the People's Republic of China (China) for the period of review (POR) January 1, 2019, through December 31, 2019, based on the timely withdrawal of the request for review.

DATES: Applicable July 15, 2020.

FOR FURTHER INFORMATION CONTACT: Shanah Lee, AD/CVD Operations, Office III, Enforcement and Compliance, International Trade Administration, U.S. Department of Commerce, 1401 Constitution Ave NW, Washington DC 20230; telephone: (202) 482-6386.

SUPPLEMENTARY INFORMATION:

Background

On February 3, 2020, Commerce published a notice of opportunity to request an administrative review of the CVD order on CDMT from China for the POR of January 1, 2019, through December 31, 2019.¹ On March 2, 2020, Commerce received a timely-filed request from ArcelorMittal Tubular Products LLC and Webco Industries, Inc. (collectively, the petitioners) for an administrative review of 22 producers and exporters, in accordance with section 751(a) of the Tariff Act of 1930, as amended (the Act), and 19 CFR 351.213(b).²

¹ See Antidumping and Countervailing Duty Order, Finding, or Suspended Investigation; Opportunity to Request Administrative Review, 85 FR 5938 (February 3, 2020).

² See Petitioners' Letter, “Cold-Drawn Mechanical Tubing from the People's Republic of China—Domestic Industry's Request for 2019 Second Administrative Review,” dated March 2, 2020.

On April 8, 2020, pursuant to this request, and in accordance with 19 CFR 351.221(c)(1)(i), Commerce published a notice initiating an administrative review of the CVD order on CDMT from China for the 22 producers and exporters.³ On June 18, 2020, the petitioners withdrew their request for an administrative review of all 22 producers and exporters.⁴ On June 23, 2020, Zhejiang Minghe Steel Pipe Co., Ltd. (Minghe), the sole mandatory respondent selected in this review, acknowledged the domestic interested parties' withdrawal request.⁵

³ See Initiation of Antidumping and Countervailing Duty Administrative Reviews, 85 FR 19730 (April 8, 2020).

⁴ See Petitioners' Letter, “Certain Cold-Drawn Mechanical Tubing from the People's Republic of China—Domestic Producers Withdrawal of Request for 2019 Countervailing Duty Administrative Review,” dated June 18, 2020.

⁵ See Minghe's Letter, “Certain Cold-Drawn Mechanical Tubing from China: Rescission of Review; Suspension of Questionnaire Requirements,” dated June 23, 2020.

Rescission of Review

Pursuant to 19 CFR 351.213(d)(1), Commerce will rescind an administrative review, in whole or in part, if the party or parties that requested a review withdraws the request within 90 days of the publication date of the notice of initiation of the requested review. The domestic interested parties withdrew their request for review of all of the 22 producers and exporters for which they had requested an administrative review. No other parties requested an administrative review of the order. Therefore, in accordance with 19 CFR 351.213(d)(1), we are rescinding this review in this entirety.

Assessment

Commerce will instruct U.S. Customs and Border Protection (CBP) to assess countervailing duties on all appropriate entries of CDMT from China. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: July 8, 2020.
James Maeder,
Deputy Assistant Secretary for Antidumping and Countervailing Duty Operations.

[FR Doc. 2020-15281 Filed 7-14-20; 8:45 am]

BILLING CODE 3510-DS-P